NUCLEAR REGULATORY COMMISSION

[Docket Nos. 50-302 and 72-1035; NRC-2020-0077]

In the Matter of Duke Energy Florida, LLC; Crystal River Unit 3 Nuclear Generating Plant and Independent Spent Fuel Storage Installation

AGENCY: Nuclear Regulatory Commission.

ACTION: Direct transfer of license; order.

SUMMARY: The U.S. Nuclear Regulatory Commission (NRC) is issuing an order approving the transfer to ADP CR3, LLC (ADP CR3) of the licensed authority of Duke Energy Florida, LLC (DEF) under Facility Operating License No. DPR-72 for the Crystal River Unit 3 Nuclear Generating Plant (CR-3) and the general license for the CR-3 independent spent fuel storage installation (ISFSI) to possess, maintain, and decommission CR-3 and its ISFSI. The order also approves a draft conforming administrative license amendment to reflect the transfer from DEF to ADP CR3. The NRC determined that ADP CR3 is qualified to hold the licenses to the extent proposed, and that the transfer is otherwise consistent with applicable provisions of law, regulations, and orders issued by the Commission pursuant thereto, subject to the condition described in the order. The order became effective on April 1, 2020.

DATES: The order was issued on April 1, 2020 and is effective for one year.

ADDRESSES: Please refer to Docket ID NRC-2020-0077 when contacting the NRC about the availability of information regarding this document. You may obtain publicly-available information related to this document using any of the following methods:

• Federal Rulemaking Website: Go to https://www.regulations.gov and search for Docket ID NRC-2020-0077. Address questions about NRC Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: John B. Hickman, Office of Nuclear Material Safety and Safeguards, U.S. Nuclear Regulatory Commission, Washington, DC 20555-0001; telephone: 301-415-3017; email: John.Hickman@nrc.gov.

SUPPLEMENTARY INFORMATION: The text of the order is attached.

Dated: April 2, 2020.
For the Nuclear Regulatory Commission.
Bruce A. Watson,
Chief, Reactor Decommissioning Branch, Division of Decommissioning, Uranium Recovery and Waste Programs, Office of Nuclear Material Safety and Safeguards.

Attachment—Order Approving Transfer of Licensed Authority and Draft Conforming Administrative License Amendment

United States of America

Nuclear Regulatory Commission

In the Matter of Duke Energy Florida, LLC; Crystal River Unit 3 Nuclear Generating Plant and its generally licensed ISFSI

Docket Nos. 50-302 and 72-1035

License No. DPR-72

Order Approving Transfer of Licensed Authority and Draft Conforming Administrative License Amendment (EA-20-045)

I

Duke Energy Florida, LLC (DEF) is the holder of Facility Operating License No. DPR-72 for the Crystal River Unit 3 Nuclear Generating Plant (CR-3) and the general license for the CR-3 independent spent fuel storage installation (ISFSI) (collectively, the licenses). DEF is authorized to possess, maintain, and decommission CR-3 and the CR-3 ISFSI (collectively, the CR-3 facility), which are located in Crystal River, Florida. The CR-3 facility is located on the Gulf coast of Florida approximately 80 miles north of Tampa, Florida, within the Crystal River Energy Complex (CREC).

CR-3 was a 2,609 megawatts thermal single-unit pressurized light-water reactor supplied by Babcock & Wilcox that was issued an operating license on January 28, 1977. By letter dated February 20, 2013 (Agencywide Documents Access and Management System (ADAMS) Accession No. ML13056A005), pursuant to Section 50.82(a)(1) of Title 10 of the Code of Federal Regulations (10 CFR), DEF notified the U.S. Nuclear Regulatory Commission (NRC, the Commission) that CR-3 had been permanently shut down and that all fuel had been permanently removed from the reactor vessel. Accordingly, pursuant to 10 CFR 50.82(a)(2), the 10 CFR part 50 license for CR-3 no longer authorizes operation of the reactor or emplacement or retention of fuel into the reactor vessel.

II

By letter dated June 14, 2019 (ADAMS Accession No. ML19170A209), as supplemented by letters dated January 17, 2020 (ADAMS Accession No. ML20017A216), and March 5, 2020 (ADAMS Accession No. ML20065K737), DEF requested, on behalf of itself and ADP CR3, LLC (ADP CR3) (collectively, the Applicants), pursuant to Section 184 of the Atomic Energy Act of 1954, as amended, and 10 CFR 50.80, “Transfer of licenses,” and 10 CFR 72.50, “Transfer of license,” that the NRC consent to the transfer to ADP CR3 of DEF's licensed authority under the licenses. Specifically, DEF intends to transfer its NRC-licensed possession, maintenance, and decommissioning authorities to ADP CR3 for the purpose of completing the decommissioning of the CR-3 facility. The application proposed no physical or operational changes to the CR-3 facility.

The NRC published a notice, “Crystal River Unit 3 Nuclear Generating Plant; Duke Energy Florida, LLC; Consideration of Approval of Transfer of License and Conforming Amendment,” in the Federal Register (FR) on October 11, 2019 (84 FR 54932). The NRC did not receive any comments or hearing requests on the application.

Pursuant to 10 CFR 50.80, no license for a production or utilization facility, or any right thereunder, shall be transferred, either voluntarily or involuntarily, directly or indirectly, through transfer of control of the license to any person, unless the Commission gives its consent in writing. Upon review of the information in the application for license transfer, as supplemented, and other information before the Commission, and relying upon the representations and agreements contained in the application, the NRC staff has determined that ADP CR3 is qualified to hold the licenses to the extent proposed, and that the transfer, as described in the application, is otherwise consistent with applicable provisions of law, regulations, and orders issued by the Commission pursuant thereto, subject to the condition set forth below.

Upon review of the information in the application for a conforming administrative license amendment, as supplemented, the NRC staff has determined that:

(1) The application for amendment complies with the standards and requirements of the Atomic Energy Act of 1954, as amended (the Act), and the Commission's rules and regulations set forth in 10 CFR Chapter I.

(2) The facility will operate in conformity with the application, the provisions of the Act, and the rules and regulations of the Commission.

(3) There is reasonable assurance that the activities authorized by the amendment can be conducted without endangering the health and safety of the public, and that such activities will be conducted in compliance with the Commission's regulations.

(4) The issuance of the amendment will not be inimical to the common defense and security or to the health and safety of the public.

(5) The issuance of the amendment is in accordance with 10 CFR part 51 of the Commission's regulations and all applicable requirements have been satisfied.

The findings set forth above are supported by an NRC staff safety evaluation dated April 1, 2020, which is available at ADAMS Accession No. ML20069A027.

III

Accordingly, pursuant to Sections 161b, 161i, and 184 of the Act, 42 U.S.C. Sections 2201(b), 2201(i), and 2234; and 10 CFR 50.80, 10 CFR 72.50, and 10 CFR 50.90, it is hereby ordered that the application for license transfer, as described herein, is approved, subject to the following condition:

Prior to the closing of the license transfer, DEF and ADP CR3 shall provide the Director of the NRC's Office of Nuclear Material Safety and Safeguards satisfactory documentary evidence that they have obtained the appropriate amount of insurance required of a licensee under 10 CFR 140.11(a)(4) and 10 CFR 50.54(w), consistent with the exemptions issued for CR-3 on April 27, 2015, and March 31, 2016.

It is further ordered that, consistent with 10 CFR 2.1315(b), the license amendment that makes changes, as indicated in Enclosure 2 to the letter transmitting this Order, to reflect the subject license transfer, is approved. The amendment shall be issued and made effective at the time the proposed transfer actions are completed.

It is further ordered that after receipt of all required regulatory approvals of the proposed transfer actions, ADP CR3 shall inform the Director of the NRC Office of Nuclear Material Safety and Safeguards in writing of such receipt, and of the date of the closing of the transfer, no later than 5 business days before the date of the closing of the transfer. Should the proposed transfer not be completed within 1 year of the date of this Order, this Order shall become null and void, provided, however, that upon written application and for good cause shown, such date may be extended by order.

This Order is effective upon issuance.

For further details with respect to this Order, see the application dated June 14, 2019 (ADAMS Accession No. ML19170A209), the supplemental letters dated January 17, 2020 (ADAMS Accession No. ML20017A216), and March 5, 2020 (ADAMS Accession No. ML20065K737), and the NRC staff's safety evaluation dated April 1, 2020 (ADAMS Accession No. ML20069A027), which are available for public inspection at the NRC's Public Document Room located at One White Flint North, Public File Area O1-F21, 11555 Rockville Pike (first floor), Rockville, Maryland. Publicly available documents created or received at the NRC are accessible electronically through ADAMS in the NRC Library at http://www.nrc.gov/reading-rm/adams.html. Persons who do not have access to ADAMS or who encounter problems accessing the documents located in ADAMS should contact the NRC Public Document Room reference staff by telephone at 1-800-397-4209 or 301-415-4737, or by email to pdr.resource@nrc.gov.

Dated at Rockville, Maryland, this 1st day of April, 2020.
For the Nuclear Regulatory Commission.
John W. Lubinski,
Director, Office of Nuclear Material Safety and Safeguards.

[FR Doc. 2020-07261 Filed 4-6-20; 8:45 am]

BILLING CODE 7590-01-P